SMALL BUSINESS ADMINISTRATION

Revocation of License of Small Business Investment Company

Pursuant to the authority granted to the United States Small Business Administration by the Final Order of the United States District Court of Oregon, Portland Division, entered October 15, 2014, the United States Small Business Administration hereby revokes the license of Smart Forest Ventures I. L.P., a Delaware Limited Partnership, to function as a small business investment company under the Small Business Investment Company License No. 10700195 issued to Smart Forest Ventures I, L.P., on January 19, 2001, and said license is hereby declared null and void as of October 15, 2014.

United States Small Business Administration.
Dated: May 8, 2015.
Javier Saade,
Acting Associate Administrator for Investment.

[FR Doc. 2015-11887 Filed 5-15-15; 8:45 am]

BILLING CODE P